FEDERAL COMMUNICATIONS COMMISSION

47 CFR Part 73

[DA 05-1614; Docket No. 04-402; RM-11087]

Radio Broadcasting Services; Cheyenne and Encampment, WY

AGENCY: Federal Communications Commission.

ACTION: Final rule; dismissal.

SUMMARY: In response to a Notice of Proposed Rule Making (“Notice”), 69 FR 65120 (November 10, 2004), this Report and Order dismisses a rulemaking proceeding requesting the allotment of Channel 285C2 to Encampment, Wyoming, the substitution of Channel 229C2 for Channel 285C2 at Station KRRR (FM), Cheyenne, Wyoming, and the substitution of Channel 285C2 for vacant Channel 229A at Cheyenne, Wyoming. The proponent of this rulemaking requested that the proceeding be dismissed and provided a declaration that neither it nor any of its principals has received or will receive any consideration in connection with the withdrawal of its expression of interest in this proceeding.

DATES: July 25, 2005.

FOR FURTHER INFORMATION CONTACT: R. Barthen Gorman, Media Bureau, (202) 418-2180.

SUPPLEMENTARY INFORMATION: This is a synopsis of the Commission's Report and Order, MB Docket No. 04-402, adopted June 8, 2005, and released June 10, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. This document is not subject to the Congressional Review Act. (The Commission is, therefore, not required to submit a copy of this Report and Order to GAO pursuant to the Congressional Review Act, see 5 U.S.C. 801(a)(1)(A), because the proposed rule is dismissed.)

Channel 260A should not be listed in 47 CFR 73.202(b), FM Table of Allotments under Cheyenne, Wyoming. The referenced channel was upgraded to Channel 260C2 on February 14, 1997 (File No. BPH-19961031IB). Accordingly, 47 CFR 73.202, FM Table of Allotments under Cheyenne, Wyoming, should be amended to reflect the fact that Channel 260C2 has been added to Cheyenne and Channel 260A has been removed from Cheyenne.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Wyoming is amended by removing Channel 260A and by adding Channel 260C2 at Cheyenne.

Federal Communications Commission.
John A. Karousos,
Assistant Chief, Audio Division, Media Bureau.

[FR Doc. 05-12469 Filed 6-28-05; 8:45 am]

BILLING CODE 6712-01-P